ENVIRONMENTAL PROTECTION AGENCY

[FRL-7920-3]

Proposed Settlement Agreement, Clean Air Act Citizen Suit

AGENCY: Environmental Protection Agency (EPA).

ACTION: Notice of Proposed Consent Decree; request for public comment.

SUMMARY: In accordance with section 113(g) of the Clean Air Act, as amended (“Act”), 42 U.S.C. 7413(g), notice is hereby given of a draft Consent Decree to address claims raised by Blue Skies Alliance, Downwinders at Risk, Public Citizen, and Sierra Club (“Blue Skies”) in a citizen suit filed in the United States District Court for the Northern District of Texas. Blue Skies Alliance et. al v. United States Environmental Protection Agency, Civil Action No. 3:04-CIV-2169-N (N.D. TX). This lawsuit, filed pursuant to section 304(a) of the Clean Air Act (“CAA”), 42 U.S.C. 7604(a), alleged that EPA failed to perform the following nondiscretionary duties: Determine whether the Dallas/ Fort Worth ozone nonattainment area (“DFW”) had attained the 1-hour national ambient air quality standard (“NAAQS”) and take final action by the statutory deadline on two state implementation plan (“SIP”) revisions for DFW. The proposed Consent Decree provides that EPA will take final action on certain SIP revisions within a specified period of time.

DATES: Written comments on the proposed settlement agreements must be received by July 5, 2005.

ADDRESSES: Submit your comments, identified by docket ID number OGC-2005-0006, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

SUPPLEMENTARY INFORMATION: The Blue Skies Alliance filed suit under section 304(a) of the CAA, 42 U.S.C. 7604(a), in the United States District Court for the Northern District of Texas. Blue Skies Alliance et. al v. United States Environmental Protection Agency, Civil Action No. 3:04-CIV-2169-N (N.D. TX). In the complaint, Blue Skies alleged that EPA: (1) Failed to perform a nondiscretionary duty to determine whether the DFW had attained the 1-hour NAAQS pursuant to section 181(b)(2) of the CAA, 42 U.S.C. 7511(b)(2); and (2) failed to perform a nondiscretionary duty to take final action by the statutory deadline, pursuant to section 110(k)(2) of the CAA, 42 U.S.C. 7410(k)(2), on the Post-1996 Rate of Progress SIP for DFW and the attainment demonstration SIP for DFW submitted to EPA on April 25, 2000.

The proposed Consent Decree provides that no later than December 1, 2005, EPA shall sign for publication in the Federal Register a notice(s) of final rulemaking to approve or disapprove, in whole or in part, three programs that were submitted as part of the attainment demonstration SIP: (1) The Texas Emission Reduction Plan SIP revision, (2) the Voluntary Mobile Source Emission Reduction Program SIP revision, and (3) the Transportation Control Measures SIP revision. Once EPA has completed these obligations, and the actions have been published in the Federal Register, the case will be dismissed with prejudice.

For a period of thirty (30) days following the date of publication of this notice, the Agency will receive written comments relating to the proposed Consent Decree from persons who were not named as parties or interveners to the litigation in question. EPA or the Department of Justice may withdraw or withhold consent to the proposed Consent Decree if the comments disclose facts or considerations that indicate that such consent is inappropriate, improper, inadequate, or inconsistent with the requirements of the Act. Unless EPA or the Department of Justice determine, following the comment period, that consent is inappropriate, the Consent Decree will be final.

Dated: May 25, 2005.
Richard B. Ossias,
Acting Associate General Counsel.

[FR Doc. 05-10992 Filed 6-1-05; 8:45 am]

BILLING CODE 6560-50-P